DEPARTMENT OF COMMERCE

Foreign-Trade Zones Board

[B-59-2021]

Foreign-Trade Zone (FTZ) 104—Savannah, Georgia; Authorization of Production Activity; Savannah Yacht Center Inc. (Repair of Yachts, Sailboats, and Boat Tenders); Savannah, Georgia

On August 17, 2021, Savannah Yacht Center Inc. (SYC) submitted a notification of proposed production activity to the FTZ Board for its facility within Subzone 104J, in Savannah, Georgia.

The notification was processed in accordance with the regulations of the FTZ Board (15 CFR part 400), including notice in the Federal Register inviting public comment (86 FR 47294, August 24, 2021). On December 15, 2021, the applicant was notified of the FTZ Board's decision that no further review of the activity is warranted at this time. The production activity described in the notification was authorized, subject to the FTZ Act and the FTZ Board's regulations, including Section 400.14.

Dated: December 15, 2021.
Andrew McGilvray,
Executive Secretary.

[FR Doc. 2021-27442 Filed 12-17-21; 8:45 am]

BILLING CODE 3510-DS-P